DEPARTMENT OF ENERGY

Federal Energy Regulatory Commission

Combined Notice of Filings

Take notice that the Commission has received the following Natural Gas Pipeline Rate and Refund Report filings:

Filings Instituting Proceedings

Docket Numbers: RP22-377-000.

Applicants: Transcontinental Gas Pipe Line Company, LLC.

Description: § 4(d) Rate Filing: Negotiated Rates—Cherokee AGL—Replacement Shippers—Dec 2021 to be effective 12/1/2021.

Filed Date: 12/1/21.

Accession Number: 20211201-5117.

Comment Date: 5 p.m. ET 12/13/21.

Docket Numbers: RP22-378-000.

Applicants: Transcontinental Gas Pipe Line Company, LLC.

Description: § 4(d) Rate Filing: List of Non-Conforming Service Agreements (Leidy South_Interim Svc_2_3) to be effective 12/1/2021.

Filed Date: 12/1/21.

Accession Number: 20211201-5122.

Comment Date: 5 p.m. ET 12/13/21.

Docket Numbers: RP22-379-000.

Applicants: Rockies Express Pipeline LLC.

Description: § 4(d) Rate Filing: REX 2021-11-30 Negotiated Rate Agreements to be effective 12/1/2021.

Filed Date: 12/1/21.

Accession Number: 20211201-5149.

Comment Date: 5 p.m. ET 12/13/21.

Docket Numbers: RP22-380-000.

Applicants: Alliance Pipeline L.P.

Description: § 4(d) Rate Filing: Negotiated Rates—Various Dec 1 Capacity Releases to be effective 12/1/2021.

Filed Date: 12/1/21.

Accession Number: 20211201-5155.

Comment Date: 5 p.m. ET 12/13/21.

Docket Numbers: RP22-381-000.

Applicants: MarkWest Pioneer, L.L.C.

Description: § 4(d) Rate Filing: Quarterly Fuel Adjustment Filing to be effective 1/1/2022.

Filed Date: 12/1/21.

Accession Number: 20211201-5169.

Comment Date: 5 p.m. ET 12/13/21.

Docket Numbers: RP22-382-000.

Applicants: Cameron Interstate Pipeline, LLC.

Description: § 4(d) Rate Filing: Cameron Interstate Pipeline, LLC Annual Adjustment of Fuel Retainage Percentage to be effective 1/1/2022.

Filed Date: 12/1/21.

Accession Number: 20211201-5215.

Comment Date: 5 p.m. ET 12/13/21.

Docket Numbers: RP22-383-000.

Applicants: MoGas Pipeline LLC.

Description: § 4(d) Rate Filing: MoGas Pipeline LLC Negotiated Rate Tariff Filing to be effective 1/1/2022.

Filed Date: 12/1/21.

Accession Number: 20211201-5224.

Comment Date: 5 p.m. ET 12/13/21.

Docket Numbers: RP22-384-000.

Applicants: Columbia Gas Transmission, LLC.

Description: § 4(d) Rate Filing: Vitol OPT30 & OPT60 Rev Share Neg Rate Agmts to be effective 12/1/2021.

Filed Date: 12/1/21.

Accession Number: 20211201-5237.

Comment Date: 5 p.m. ET 12/13/21.

Docket Numbers: RP22-385-000.

Applicants: ANR Pipeline Company.

Description: § 4(d) Rate Filing: Venture Global Calcasieu 133756—Neg Rate/Non-Conforming to be effective 1/1/2022.

Filed Date: 12/1/21.

Accession Number: 20211201-5238.

Comment Date: 5 p.m. ET 12/13/21.

Docket Numbers: RP22-386-000.

Applicants: El Paso Natural Gas Company, L.L.C.

Description: § 4(d) Rate Filing: Negotiated Rate Agreements Filing (Eco Energy/Red Willow/Shell) to be effective 1/1/2022.

Filed Date: 12/1/21.

Accession Number: 20211201-5242.

Comment Date: 5 p.m. ET 12/13/21.

Docket Numbers: RP22-387-000.

Applicants: Natural Gas Pipeline Company of America LLC.

Description: § 4(d) Rate Filing: Amendment to a Negotiated Rate Agreement—Kiowa Power Partners, LLC to be effective 12/1/2021.

Filed Date: 12/1/21.

Accession Number: 20211201-5266.

Comment Date: 5 p.m. ET 12/13/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-100-000.

Applicants: National Grid LNG, LLC.

Description: Refund Report: Refund Report of National Grid LNG in Docket RP21-100 to be effective N/A.

Filed Date: 12/1/21.

Accession Number: 20211201-5236.

Comment Date: 5 p.m. ET 12/13/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2021.
Kimberly D. Bose,
Secretary.

[FR Doc. 2021-26580 Filed 12-7-21; 8:45 am]

BILLING CODE 6717-01-P